DEPARTMENT OF STATE

[Public Notice 5673]

Bureau of Educational and Cultural Affairs (ECA) Request for Grant Proposals: Turkish Student Teacher Internship Project

Announcement Type: New Cooperative Agreement.

Funding Opportunity Number: ECA/A/S/X-07-02.

Catalog of Federal Domestic Assistance Number: 00.000.

Key Dates: Application Deadline: March 21, 2007.

Executive Summary: The Office of Global Educational Programs of the Bureau of Educational and Cultural Affairs announces an open competition for the Turkish Student Teacher Internship Project. U.S. public and private universities meeting the provisions described in Internal Revenue Code section 26 U.S.C. 501(c)(3) may submit proposals to administer an eight-week professional development program for graduate students of education from Turkey beginning in January 2008. The focus of the program is to familiarize participants with U.S. student-centered teaching methods and the use of technology in the classroom. The exchange experience should also give Turkish participants an in-depth experience of American life and culture and contribute to mutual understanding between Turkey and the United States. The program should include both a theoretical component, provided through professional development seminars in an academic setting, and a practical component, provided through practice teaching experience under the guidance of experienced mentor teachers in local school districts. Interested organizations should indicate strong contacts with local U.S. school districts in order to provide the practical student-teaching component, as well as a demonstrated ability to conduct a substantive academic program. Host schools for internships may be public, private, magnet or charter schools, and should exemplify best practices.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose

The Turkish Student Teacher Internship Project will bring forty graduate student teachers of education from Bilkent University and other universities in Turkey to the U.S. to learn about student-centered teaching and technology in the classroom. Approximately twenty-six participants will be enrolled in a two-year Master's in Teacher Education program, a Teaching English as a Foreign Language program, or other innovative degree programs which train high school level teachers of other subjects to use student-centered teaching methods. Most of the students will have completed one year of M.A.-level academic work before beginning the program in the U.S. The English-speaking student teachers will be selected by the Commission for Educational Exchange between the U.S.A. and Turkey (Fulbright Commission) in coordination with the U.S. Embassy in Turkey. At least twelve of the participants will come from universities other than Bilkent University. Some of these other students may be upper-level undergraduate students with strong English language skills, subject field knowledge, and a background in education. The group will demonstrate diversity in terms of their home regions in Turkey, gender, and socio-economic background, and will prepare to teach in the subject fields of English as a Foreign Language, Turkish language and literature, mathematics, history, and biology. Following their program, the students will return to their home institutions for additional graduate study before starting careers as high school teachers in Turkey.

This program is designed to assist young Turkish educators who will prepare students to live in an increasingly interdependent world, and to provide these educators with an in-depth exchange experience in the United States. It is intended that this experience will provide a basis for continuing contact with American counterparts in order to promote mutual understanding between the two countries.

Guidelines

The eight-week program should provide participants with thorough exposure to student-centered teaching approaches and the use of technology in American schools and a substantive cultural/educational exchange experience in the United States. The cooperating institution will, in collaboration with representatives of the Fulbright Commission, U.S. Embassy, and Bilkent University in Ankara, conduct a needs assessment, interview and select participants, and lead a three-day pre-departure orientation workshop for the participants.

The cooperating institution should provide substantive information for the pre-departure orientation about the program, the program's goals, and expectations of participants. It should also offer a framework for integrating the training and its objectives into the participants' previous training, and promote strategies for sharing their knowledge with professional counterparts and with students in their own classrooms. At the orientation, organizers should seek input from the participants about the needs of local teachers, review comparative teaching practices, and address issues about the participants' stay in the U.S.

Upon their arrival in the United States, the participants should receive a second orientation that includes a basic introduction to American life and customs, and how these customs differ from practices in their home country. The participants should also receive academic training on teaching methodology and instructional procedures. Teachers should then be placed in small groups at local schools, paired with experienced U.S. teachers whose academic specializations match their own (English, biology, history, mathematics, and Turkish language and literature—for which the pairing should be with U.S. literature mentor teachers). Internship activities should include: Observing a variety of teaching methods (inquiry, active classroom, group projects, etc.) as well as computer-based lessons; working individually with a mentor teacher on curriculum development; and team teaching. While the greatest emphasis should be on immersing student teachers actively in the American classroom environment, the participants should also participate in development seminars on related topics in a university academic setting. The internship and seminars will also help participants to create a curriculum development project or portfolio to use upon their return to Turkey.

Components of U.S. Program

• Cross-cultural orientation (2-4 days): Introduction to U.S. Government as it relates to education, the U.S. educational system, and American culture through site visits and a cross-cultural adjustment seminar;

• Site visits in school districts (2-3 days): To all levels and types of schools, including economically and ethnically diverse schools;

• Internships in high schools (6 weeks): Each student teacher will work with a U.S. mentor teacher individually or with one other student teacher; activities should include classroom observation, team teaching, and cultural presentations;

• Exposure to local school governance: Through such activities as attendance at faculty, board of education, and PTA meetings;

• Professional development seminars planned and conducted in an academic setting to complement school-based training: Topics may include classroom management, conflict resolution, diversity, and curriculum development. Seminars may be spread throughout the six weeks or take the form of a mid-program conference/debriefing;

• Final debriefing (1-2 days): Student teachers will share what they have observed and learned through presentations they will make to each other within the group;

• Curriculum development project: By the end of the eight-week program, the student teachers should complete a project incorporating a new teaching method or technology that they will put into practice when they begin teaching in Turkey. Students should be able to use this project to brief fellow students at seminars held at their home universities, sharing the knowledge they have gained during their exchange experience with a wider group of MA candidates in Turkey.

• Cultural experiences: The project should provide opportunities for participants to interact with the local community through brief home hospitality visits and through involvement with non-school-based groups; participants should take part in activities reflecting the diversity of American society, and should speak to Americans about Turkish history and culture.

• Final debriefing in Washington, DC: This portion of the program will allow Department of State staff to discuss the program in detail with the participants and to discuss how to improve such programs in the future. A cultural program, to be approved by the Bureau, will also be part of the Washington visit.

Grantee's Responsibilities

• Plan and implement the exchange program in all aspects, including both the academic and practical component;

• Together with the Fulbright Commission and the U.S. Embassy in Ankara, run a competition to select Turkish students to take part in the program;

• Conduct a needs assessment at beginning of project;

• Locate school districts to host groups for U.S. internships through an informal competition (schools must submit a brief proposal outlining their interest, understanding of goals, examples of best practices, and commitment to mentoring). Transportation should be provided for student teachers by the administering university or host school. Schools should expose participants to multiple pedagogical styles and should designate an experienced mentor teacher to oversee the day-today activities of the participants;

• Conduct orientations in Turkey and the U.S. (the pre-departure orientation in Turkey may be conducted by the Fulbright Commission in close cooperation with the grantee organization, and the local coordinating institution, Bilkent University);

• Conduct professional development seminars and a debriefing;

• Brief U.S. mentor teachers on their responsibilities in supervising the student teachers during their internships;

• Monitor and evaluate the program;

• Administer all participant logistics: arrange international transportation, ground transportation to local schools and training sites, and participant per diem and housing; enroll participants in State Department-provided emergency and accident insurance; prepare U.S. Government forms such as the DS-2019 forms, tax, social security, etc.

• Arrange for home hospitality visits for at least some portion of the exchange visit, perhaps through local schools or other participating organizations; cooperating institutions should be sensitive to accommodating participants' religious observances;

• Administer all financial aspects of the program and comply with reporting requirements;

• Arrange a visit to Washington, DC, at the end of the group's U.S. program, to include meetings with Bureau representatives, a cultural program, and a school site visit if possible;

• Plan follow-on activities with host schools and participants in conjunction with participants' academic program;

• Administer an alumni grants competition, in which Turkish participants may apply for financial assistance to obtain essential materials for their home schools, offer follow-on training for other teachers, open a teacher resource center, develop teaching materials, bring U.S. mentor teachers to Turkey to develop school linkages, and to conduct other activities that will build on the exchange visits.

The Fulbright Commission for Educational Exchange between the U.S.A. and Turkey will assist in obtaining international airline tickets; the grantee will pay the airline office in Ankara for the air tickets. The purchase of tickets must be in compliance with the Fly America Act. The grantee will prepare DS-2019 forms and enroll the student teachers in the State Department's health insurance policy. The Fulbright Commission and the sending universities will assist in the pre-departure orientation and will conduct a post-program evaluation. The grantee will coordinate with the Fulbright Commission on all non-U.S. based aspects of program administration. The proposal should address mechanisms for communication and coordination. The grantee organization will coordinate with the Teacher Exchange Branch in the Bureau of Educational and Cultural Affairs regarding all U.S.-based activities, reporting and evaluation.

It will be important for the grantee organization to help create a network for participants to communicate and support each other in using the new methodologies after they have completed their academic program in Turkey and become teachers. A strong proposal will address follow-on activities in conjunction with the Fulbright Commission and the sending university or universities to increase future impact and participant support.

The grant will begin on or about June 1, 2007, and the grantee should complete all exchange activities by December 31, 2008. The exchange program will take place in January-March 2008. Please refer to additional program specific guidelines in the Project Objectives, Goals, and Implementation (POGI) document.

Programs must comply with J-1 visa regulations. Please refer to Solicitation Package for further information.

II. Award Information

Type of Award: Grant Agreement.

Fiscal Year Funds: 2007.

Approximate Total Funding: $350,000.

Approximate Number of Awards: 1.

Approximate Average Award: $350,000.

Anticipated Award Date: Pending availability of funds, June 1, 2007.

Anticipated Project Completion Date: December 31, 2008.

Additional Information: Pending successful implementation of this program and the availability of funds in subsequent fiscal years, it is ECA's intent to renew this grant for two additional fiscal years, before openly competing it again.

III. Eligibility Information

III.1. Eligible Applicants

Applications may be submitted by U.S. public and private universities meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding one grant, in an amount up to $350,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV. 1. Contact Information to Request an Application Package

Please contact Patricia Mosley of the Teacher Exchange Branch, ECA/A/S/X, Room 349, U.S. Department of State, SA-44, 301 4th Street, SW., Washington, DC 20547, telephone: (202) 453-8897, fax: (202) 453-8890, e-mail: MosleyPJ@state.gov to request a Solicitation Package. Please refer to the Funding Opportunity Number ECA/A/S/X-07-02 located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Michael Kuban, telephone: (202) 453-8897, e-mail: KubanMM@state.gov and refer to the Funding Opportunity Number ECA/A/S/X-07-02 located at the top of this announcement on all other inquiries and correspondence.

IV.2. To Download a Solicitation Package Via Internet

The entire Solicitation Package may be downloaded from the Bureau's Web site at http://exchanges.state.gov/education/rfgps/menu.htm, or from the Grants.gov Web site at http://www.grants.gov. Please read all information before downloading.

IV.3. Content and Form of Submission

Applicants must follow all instructions in the Solicitation Package. The original and seven copies of the application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, recordkeeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 203-5029, FAX: (202) 453-8640. Please refer to the Solicitation Package for further information.

IV.3d.2. Diversity, Freedom and Democracy Guidelines Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3.d.4. Describe your plans for staffing: Please provide a staffing plan which outlines the responsibilities of each staff person and explains which staff member will be accountable for each program responsibility. Wherever possible please streamline administrative processes.

IV.3e. Please take the following information into consideration when preparing your budget:

IV.3e.1. Applicants must submit a comprehensive budget for the entire program. The budget should not exceed $350,000 for program and administrative costs. There must be a summary budget as well as breakdowns reflecting both administrative and program budgets for host campus and foreign teacher involvement in the program. Applicants may provide separate sub-budgets for each program component, phase, location, or activity to provide clarification.

The summary and detailed administrative and program budgets should be accompanied by a narrative which provides a brief rationale for each line item including a methodology for estimating appropriate average maintenance allowance levels and tuition costs (as applicable) for the participants, and the number that can be accommodated at the levels proposed. The total administrative costs funded by the Bureau must be reasonable and appropriate.

IV.3e.2. Allowable costs for the program and additional budget guidance are outlined in detail in the POGI document.

Please refer to the Solicitation Package for complete budget guidelines and formatting instructions.

IV.3f. Application Deadline and Methods of Submission.

Application Deadline Date: Wednesday, March 21, 2007.

Reference Number: ECA/A/S/X-07-02.

Methods of Submission:

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications.

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven copies of the application should be sent to: U.S. Department of State, SA-44, Bureau of Educational and Cultural Affairs, Ref.: ECA/A/S/X-07-02, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Section(s) at the U.S. embassy(ies) for its(their) review.

IV.3f.2—Submitting Electronic Applications.

Applicants have the option of submitting proposals electronically through Grants.gov (http://www.grants.gov). Complete solicitation packages are available at Grants.gov in the “Find” portion of the system. Please follow the instructions available in the “Get Started” portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your internet connection. Therefore, we strongly recommend that you not wait until the application deadline to begin the submission process through Grants.gov. Direct all questions regarding Grants.gov registration and submission to: Grants.gov Customer Support, Contact Center Phone: 800-518-4726, Business Hours: Monday-Friday, 7 a.m.-9 p.m. eastern time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section and Fulbright Commission overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Development and Management: The proposal narrative should exhibit originality, substance, precision, and relevance to the Bureau's mission as well as the objectives of the Turkish Student Teacher Internship Project. It should include an effective, feasible program plan for U.S.-based school internships and host university seminars.

2. Multiplier effect/impact: The proposed program should strengthen long-term mutual understanding, including maximum sharing of information and establishment of long-term institutional and individual linkages.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity and Record: Proposals should demonstrate an institutional record of successful exchange programs, including responsible fiscal management and full compliance with all reporting requirements for past Bureau grants as determined by Bureau Grants Staff. The successful proposal will demonstrate the organization's experience in international educational exchange and internship programs, and an understanding of Turkey's history, culture, religion, and system of education. The Bureau will consider the past performance of prior recipients and the demonstrated potential of new applicants.

5. Follow-on and Alumni Activities: Proposals should provide a plan for continued follow-on activity (both with and without Bureau support) ensuring that the Turkish Student Teacher Internship Project is not an isolated event. Activities should include tracking and maintaining updated lists of all alumni and facilitating follow-up activities, including administering an alumni grant competition.

6. Project Evaluation: Proposals should include a plan to evaluate the activity's success, both as the activities unfold and at the end of the program. A draft survey questionnaire or other technique plus description of a methodology to use to link outcomes to original project objectives is recommended.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and Other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants; http://exchanges.state.gov/education/grantsdiv/terms.htm#articleI.

VI.3. Reporting Requirements

You must provide ECA with a hard copy original plus one copy of the following reports:

(1) A final program and financial report no more than 90 days after the expiration of the award; and

(2) Quarterly program and financial reports.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Michael Kuban, Office of Global Educational Programs, ECA/A/S/X, Room 349, ECA/A/S/X-07-02, U.S. Department of State, SA-44, 301 4th Street, SW., Washington, DC 20547, telephone: 202-453-8897, fax 202-453-8890, KubanMM@state.gov.

All correspondence with the Bureau concerning this RFGP should reference the above title and number ECA/A/S/X-07-02.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: January 8, 2007.
Dina Habib Powell,
Assistant Secretary for Educational and Cultural Affairs, Department of State.

[FR Doc. E7-631 Filed 1-17-07; 8:45 am]

BILLING CODE 4710-05-P